PENSION BENEFIT GUARANTY CORPORATION

29 CFR Part 4011

RIN 1212-AB12

Disclosure to Participants

AGENCY: Pension Benefit Guaranty Corporation.

ACTION: Final rule; technical amendment.

SUMMARY: Section 4011 of ERISA requires certain underfunded plans to notify participants of plan funding status and the limits on the PBGC's guarantee. The Pension Protection Act of 2006 repealed section 4011 for plan years beginning after 2006 and replaced the disclosure requirement under that section with a disclosure requirement under Title I of ERISA. This rule amends PBGC's regulation on Disclosure to Participants to reflect that statutory change.

DATES: Effective Date: January 22, 2007.

FOR FURTHER INFORMATION CONTACT: John H. Hanley, Director, Legislative and Regulatory Department; or Catherine B. Klion, Manager, Regulatory and Policy Division, Legislative and Regulatory Department, Pension Benefit Guaranty Corporation, 1200 K Street, NW., Washington DC 20005-4026; 202-326-4024. (TTY/TDD users may call the Federal relay service toll-free at 1-800-877-8339 and ask to be connected to 202-326-4024.)

SUPPLEMENTARY INFORMATION: Section 4011 of ERISA requires certain underfunded plans to give an annual notice to participants of plan funding status and the limits on the PBGC's guarantee. The PBGC's implementing regulations are at 29 CFR part 4011.

On August 17, 2006, the President signed into law the Pension Protection Act of 2006, Public Law 109-280 (PPA 2006). Section 501 of PPA 2006 repealed section 4011 of ERISA for plan years beginning after 2006 and replaced the disclosure requirement under that section with a disclosure requirement under Title I of ERISA (under the jurisdiction of the Department of Labor). The PBGC is amending its regulation implementing section 4011 of ERISA to reflect that statutory change. Section 4011 continues to apply for plan years beginning on or after January 1, 1995, and before January 1, 2007.

Because this rule is simply a technical amendment that conforms PBGC's regulation to the statutory change, PBGC has determined that notice and public comment on this amendment are unnecessary. Further, because the statutory change is effective for plan years beginning after 2006, PBGC finds good cause for making this amendment effective immediately.

The PBGC has determined that this action is not a “significant regulatory action” under the criteria set forth in Executive Order 12866. Because no general notice of proposed rulemaking is required for this amendment, the Regulatory Flexibility Act of 1980 does not apply. See 5 U.S.C. 601(2).

List of Subjects in 29 CFR Part 4011

Employee benefit plans, Reporting and disclosure requirements.

For the reasons given above, 29 CFR part 4011 is amended as follows.

PART 4011—DISCLOSURE TO PARTICIPANTS

1. The authority citation for part 4011 continues to read as follows:

Authority: 29 U.S.C. 1302(b)(3), 1311.

2. Section 4011.1 is amended by adding the words “and on or before December 31, 2006,” after the words “January 1, 1995,”.

Issued in Washington, DC, this 16th day of January, 2007.
Vincent K. Snowbarger,
Interim Director, Pension Benefit Guaranty Corporation.

[FR Doc. E7-761 Filed 1-19-07; 8:45 am]

BILLING CODE 7709-01-P